DEPARTMENT OF COMMERCE

National Oceanic and Atmospheric Administration

[I.D. 111301A]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Texas Habitat Protection Advisory Panel (AP).

DATES: The AP meeting is scheduled to begin at 9 a.m. on December 4, 2001, and will conclude by 4 p.m.

ADDRESSES: The meeting will be held at the Hobby Airport Hilton, 8181 Airport Boulevard, Houston, Texas 77061; telephone 713-645-3000.

Council address: Gulf of Mexico Fishery Management Council, 3018 U.S. Highway 301 North, Suite 1000, Tampa, Florida, 33619.

FOR FURTHER INFORMATION CONTACT: Dr. Richard Leard, Senior Fishery Biologist, at the Gulf of Mexico Fishery Management Council, 3018 U.S. Highway 301 North, Suite 1000, Tampa, Florida, 33619; telephone 813-228-2815.

SUPPLEMENTARY INFORMATION: At this meeting, the AP will discuss the U.S. Fish and Wildlife Service terracing project in Galveston Bay; the Jumbilee Cove habitat restoration project; the Galveston Bay Foundation terracing project in Galveston Bay; the use of oil dispersants on a shallow water oil spill of opportunity; and review the Council's Freshwater Inflow Policy. The AP will also receive an update on the Essential Fish Habitat Environmental Impact Statement.

The Texas Habitat AP is part of a three-unit Habitat Protection AP of the Gulf of Mexico Fishery Management Council. The principal role of the APs is to assist the Council in addressing issues related to Essential Fish Habitat (EFH) and other habitat and ecological relationships supporting the marine resources of the Gulf of Mexico. APs serve as a first alert system to call to the Council's attention proposed projects being developed and other activities which may adversely impact the Gulf marine fisheries and their supporting habitat. The APs may also provide advice to the Council on EFH, as well as policies and procedures for addressing environmental affairs.

Although non-emergency issues not contained on the agendas may come before the AP for discussion, those issues may not be the subject of formal action during these meetings. Actions of the AP will be restricted to those issues specifically identified in the agendas and any issues arising after publication of this notice that require emergency action under section 305(c) of the Magnuson-Stevens Fishery Conservation and Management Act, provided the public has been notified of the Council's intent to take final action to address the emergency.

Special Accommodations

Copies of the agenda can be obtained by calling 813-228-2815. This meeting is physically accessible to people with disabilities. Requests for sign language interpretation or other auxiliary aids should be directed to Anne Alford at the Council (see ADDRESSES) by November 27, 2001.

Dated: November 15, 2001.
Richard W. Surdi,
Acting Director, Office of Sustainable Fisheries, National Marine Fisheries Service.

[FR Doc. 01-28928 Filed 11-19-01; 8:45 am]

BILLING CODE 3510-22-P